DEPARTMENT OF AGRICULTURE

Animal and Plant Health Inspection Service

7 CFR Part 301

[Docket No. 01-093-1]

Mediterranean Fruit Fly; Addition to Quarantined Areas

Correction

Federal Register document 01-26329 was inadvertently published in the Proposed Rules section in the issue of Friday, October 19, 2001 beginning on page 53123. It should have appeared in the Rules and Regulations section.

[FR Doc. C1-26329 Filed 6-18-02; 8:45 am]

BILLING CODE 1505-01-D

ENVIRONMENTAL PROTECTION AGENCY

[FRL-7228-9]

Standards for the Use or Disposal of Sewage Sludge

Correction

In notice document 02-14761 beginning on page 40554 in the issue of Wednesday, June 12, 2002 make the following corrections:

1. On page 40559, in the second column, heading numbered roman numeral “VIII” should read capital letter “I ”.

2. On page 40566, the table should read as follows:

Table 5.—Risks and Daily Exposure for Highly Exposed Farm Adult and Child for All Exposure Pathways—(Q*=1.56 x 10⁻⁴/pg TEQ/kg-d)
Percentile | Adult *: Risk | Adult *: Daily Exposure pg TEQ/kg-d | Child **: Risk | Child **: Daily Exposure, pg TEQ/kg-d
50th | 1 x 10⁻⁶ | 0.006 | 1 x 10⁻⁶ | 0.006
75th | 4 x 10⁻⁶ | 0.02 | 3 x 10⁻⁶ | 0.02
90th | 1 x 10⁻⁵ | 0.06 | 7 x 10⁻⁶ | 0.04
95th | 2 x 10⁻⁵ | 0.1 | 1 x 10⁻⁵ | 0.06
99th | 4 x 10⁻⁵ | 0.3 | 2 x 10⁻⁵ | 0.2
* Initial exposure begins when the individual is an adult.
** Initial exposure begins when the individual is a child.

[FR Doc. C2-14761 Filed 6-18-02; 8:45 am]

BILLING CODE 1505-01-D